DEPARTMENT OF COMMERCE

International Trade Administration

[A-489-810]

Notice of Final Determination of Sales at Less Than Fair Value; Certain Cold-Rolled Carbon Steel Flat Products From Turkey

AGENCY: Import Administration, International Trade Administration, Department of Commerce.

EFFECTIVE DATE: October 3, 2002.

ACTION: Notice of final determination of sales at less than fair value.

FOR FURTHER INFORMATION CONTACT: Melissa Blackledge, or Robert James at (202) 482-3518, or (202) 482-0649, respectively; Antidumping and Countervailing Duty Enforcement Group III, Import Administration, International Trade Administration, U.S. Department of Commerce, 14th Street and Constitution Avenue, NW., Washington, DC 20230.

The Applicable Statute and Regulations

Unless otherwise indicated, all citations to the statute are references to the provisions effective January 1, 1995, the effective date of the amendments made to the Tariff Act of 1930 (the Tariff Act) by the Uruguay Round Agreements Act (URAA). In addition, unless otherwise indicated, all citations to Department of Commerce (Department) regulations refer to the regulations codified at 19 CFR part 351 (April 2001).

Final Determination

We determine that cold-rolled carbon steel flat products (cold-rolled steel) from Turkey are being sold, or are likely to be sold, in the United States at less than fair value (LTFV), as provided in section 735 of the Tariff Act. The estimated margins of sales at LTFV are shown in the “Suspension of Liquidation” section of this notice.

Case History

We published in the Federal Register the preliminary determination in this investigation on May 9, 2002. See Notice of Preliminary Determination of Sales at Less Than Fair Value: Cold-Rolled Carbon Steel Flat Products from Turkey, 67 FR 31264 (May 9, 2002) (Preliminary Determination). Since the publication of the Preliminary Determination the following events have occurred.

On May 7, 2002, respondent in this investigation, BorÇelik Çelik Sanayii Ticaret A.Ş. (BorÇelik), timely submitted an allegation of several ministerial errors with respect to the preliminary determination and requested the Department correct the alleged errors and publish an amended preliminary determination. See 19 CFR 351.224(e) of the Department's regulations. The Department issued a memo addressing the allegations of ministerial errors and issued an amended preliminary determination on June 12, 2002. See Notice of Amended Preliminary Determination of Sales at Less Than Fair Value: Cold-Rolled Carbon Steel Flat Products from Turkey, 67 FR 41695 (June 19, 2002) (Amended Preliminary Determination).

The Department verified sections A-C of BorÇelik's responses from May 13 through May 17, 2002, at its administrative headquarters in Gemlik, Turkey. The Department also verified section D of BorÇelik's response from May 21 through May 25, 2002, at Borçelik's administrative headquarters. See Memorandum For the File; “Sales Verification of BorÇelik”, June 19, 2002 (Sales Verification Report) and Memorandum to Neal Halper, Acting Director, Office of Accounting; “Verification Report on the Cost of Production and Constructed Value Data—BorÇelik,” June 26, 2002 (Cost Verification Report). Public versions of these, and all other Departmental memoranda referred to herein, are on file in the Central Records Unit, room B-099 of the main Commerce building.

On May 31, 2002, the respondent, BorÇelik, requested the Department postpone the final determination the full sixty days as permitted by the statute and the Department's regulations. On June 14, 2002, the Department postponed the final determination until no later than 135 days after publication of the preliminary determination in the Federal Register. See Notice of Postponement of Final Determination of Sales at Less Than Fair Value: Cold-Rolled Carbon Steel Flat Products from Turkey, 67 FR 41955 (June 20, 2002).

On May 20, 2002, Nucor Corporation,¹ a petitioner in this investigation, requested a public hearing. On July 2, 2002, Nucor Corporation withdrew its request for a hearing. On July 12, 2002, respondent and petitioners filed case briefs. We received rebuttal briefs from all parties on July 17, 2002.

¹ Other petitioners include Bethlehem Steel Corporation, National Steel Corporation, Nucor Corporation, Steel Dynamics, Inc., United States Steel Corporation, WCI Steel, Inc., and Weirton Steel Corporation (collectively, petitioners).

Period of Investigation

The period of investigation (POI) is July 1, 2000, through June 30, 2001.

Analysis of Comments Received

All issues raised in the case and rebuttal briefs by parties to this administrative review are addressed in the “Issues and Decision Memorandum” (Decision Memorandum) from Joseph A. Spetrini, Deputy Assistant Secretary, Import Administration, to Faryar Shirzad, Assistant Secretary for Import Administration, dated September 23, 2002, which is hereby adopted by this notice. A list of the issues which parties have raised and to which we have responded, all of which are in the Decision Memorandum, is attached to this notice as an Appendix. Parties can find a complete discussion of all issues raised in this review and the corresponding recommendations in this public memorandum which is on file in B-099.

In addition, a complete version of the Decision Memorandum can be accessed directly on the World Wide Web at http://www.ia.ita.doc.gov/. The paper copy and electronic version of the Decision Memorandum are identical in content.

Scope of Investigation

For purposes of this investigation, the products covered are certain cold-rolled (cold-reduced) flat-rolled carbon-quality steel products. A full description of the scope of this investigation is contained in “Appendix I” attached to the Notice of Correction to Final Determination of Sales at Less Than Fair Value: Certain Cold-Rolled Carbon Steel Flat Products from Australia, 67 FR 52934 (August 14, 2002). For a complete discussion of the comments received on the Preliminary Scope Rulings, see the memorandum regarding “Issues and Decision Memorandum for the Final Scope Rulings in the Antidumping Duty Investigations on Certain Cold-Rolled Carbon Steel Flat Products from Argentina, Australia, Belgium, Brazil, France, Germany, India, Japan, Korea, the Netherlands, New Zealand, the People's Republic of China, the Russian Federation, South Africa, Spain, Sweden, Taiwan, Thailand, Turkey, and Venezuela, and in the Countervailing Duty Investigations of Certain Cold-Rolled Carbon Steel Flat Products from Argentina, Brazil, France, and Korea,” dated July 10, 2002, which is on file in the CRU.

Use of Facts Available

For a discussion of our application of facts available, see the “Discussion of Issues” section of the Decision Memorandum, Comment 3, which is on file in B-099 and available on the Web at http://www.ia.ita.doc.gov/.

Changes Since the Amended Preliminary Determination

Based on our analysis of comments received and findings at verification, we have made certain changes in the margin calculations. Any allegations of errors are discussed in the relevant sections of the “Decision Memorandum,” accessible in B-099 and on the Web at http://www.ia.ita.doc.gov/.

Suspension of Liquidation

Pursuant to section 735(c)(1)(B) of the Tariff Act, we are instructing Customs to continue to suspend liquidation of all entries of cold-rolled carbon steel flat products from Turkey that are entered, or withdrawn from warehouse, for consumption on or after May 9, 2002, the date of publication of the Preliminary Determination. The Customs Service shall continue to require a cash deposit or the posting of a bond based on the estimated weighted-average dumping margins shown below. The suspension of liquidation instructions will remain in effect until further notice.

We determine that the following weighted-average dumping margins exist for the period July 1, 2000, through June 30, 2001:

Exporter/manufacturer | Weighted-average margin (percent)
Borçelik Çelik Sanayii Ticaret A.Ş. (Borçelik) | 4.32
All Others | 4.32

ITC Notification

In accordance with section 735(d) of the Tariff Act, we have notified the International Trade Commission (ITC) of our determination. As our final determination is affirmative, the ITC will determine, within 45 days, whether these imports are causing material injury, or threat of material injury, to an industry in the United States. If the ITC determines that material injury or threat of injury does not exist, the proceeding will be terminated and all securities posted will be refunded or canceled. If the ITC determines that such injury does exist, the Department will issue in antidumping order directing Customs officials to assess antidumping duties on all imports of the subject merchandise entered, or withdrawn from warehouse for consumption on or after the effective date of the suspension of liquidation.

This notice also serves as a reminder to parties subject to administrative protective order (APO) of their responsibility concerning the disposition of business proprietary information disclosed under APO in accordance with 19 CFR 351.305. Timely notification of the return or destruction of APO materials, or conversion to judicial protective order, is hereby requested. Failure to comply with the regulations and the terms of an APO is a sanctionable violation.

This determination is issued and published in accordance with sections 735(d) and 777(i)(1) of the Tariff Act.

Dated: September 23, 2002.
Faryar Shirzad,
Assistant Secretary for Import Administration.

Appendix I—Issues in Decision Memorandum

Comments and Responses

1. U.S. Dollars v. Turkish Lira for Home Market Prices

2. U.S. Warranty Expenses

3. Cost of Production of Major Input (Hot-Rolled Coil)

4. Depreciation Expenses

5. Scrap

6. G&A Expenses

7. Financial Expense

8. “Vade Farki” (Inflation/Due Date-Related Charges)

9. Surface Quality

10. Billing Adjustments

11. “Kur Farki” (Currency-Fluctuation Charges)

12. Credit Expenses

[FR Doc. 02-24796 Filed 10-2-02; 8:45 am]

BILLING CODE 3510-DS-P